DEPARTMENT OF TRANSPORTATION

Federal Motor Carrier Safety Administration

49 CFR Part 396

[Docket No. FMCSA-2012-0336]

RIN 2126-AB46

Inspection, Repair, and Maintenance; Driver-Vehicle Inspection Report

AGENCY: Federal Motor Carrier Safety Administration (FMCSA), DOT.

ACTION: Notice of proposed rulemaking (NPRM); correction.

SUMMARY: This document makes corrections to a proposed rule published in the Federal Register of August 7, 2013, regarding driver vehicle inspection reports. The corrections involve clerical corrections to references. Additionally, this notice updates the point of contact in the “Assistance to Small Entities” section of the NPRM.

FOR FURTHER INFORMATION CONTACT: Ms. Deborah M. Freund, Vehicle and Roadside Operations Division, Office of Bus and Truck Standards and Operations, Federal Motor Carrier Safety Administration, telephone: 202-366-5541; deborah.freund@dot.gov.

SUPPLEMENTARY INFORMATION: For FMCSA's NPRM published on August 7, 2013 (78 FR 48125), the following corrections are made:

On page 48127, in column 2, last paragraph, change “396.11(b)” to “396.11(a)”.

On page 48128, in column 2, first paragraph in the Agency Proposal section, change “396.11(b)” to “396.11(a)”.

On page 48130, in column 1, in the first paragraph of Section Analysis, change both references regarding “§ 396.11(b)(2)” to “§ 396.11(a)(2)”.

On page 48132, in column 1, second line, change “Mike Huntley” to “Deborah M. Freund”.

On page 48133, in instruction 4, change the amendatory language “§ 396.11(b)(2)” to “§ 396.11(a)(2)” and also change “(b)” to “(a)” in the associated regulatory text.

Issued on: August 30, 2013.
Larry Minor,
Associate Administrator for Policy.

[FR Doc. 2013-21763 Filed 9-5-13; 8:45 am]

BILLING CODE 4910-EX-P